GENERAL SERVICES ADMINISTRATION

[Notice-MG-2013-02; Docket No: 2013-0002; Sequence 26]

Leased Asset Energy and GHG Reporting Interpretive Guidance

AGENCY: Office of Government-Wide Policy, U.S. General Services Administration (GSA).

ACTION: Notice.

SUMMARY: This notice announces guidance on estimating and voluntarily reporting leased asset energy use and greenhouse gas (GHG) emissions data. The guidance contains a practical set of guidelines and best practices for agencies developing their own policies and processes for leasing, energy data collection and estimation, and GHG reporting and may be found at www.gsa.gov/hpgb. It is not federal policy for energy reporting or GHG accounting.

DATES: September 27, 2013.

FOR FURTHER INFORMATION CONTACT: Ms. Kinga Porst, Office of Federal High Performance Green Buildings (MG), Office of Government-Wide Policy, GSA, at 202-501-0762 or via email at kinga.porst@gsa.gov. Please cite Notice-MK-2013-02.

SUPPLEMENTARY INFORMATION: This notice announces guidance on estimating and voluntarily reporting leased asset energy use and greenhouse gas (GHG) emissions data. The guidance contains a practical set of guidelines and best practices for agencies developing their own policies and processes for leasing, energy data collection and estimation, and GHG reporting and may be found at www.gsa.gov/hpgb. It is not federal policy for energy reporting or GHG accounting.

Dated: September 23, 2013.
Kevin Kampschroer,
Federal Director, Office of Federal High Performance Green Buildings, Office of Government-wide Policy.

[FR Doc. 2013-23581 Filed 9-26-13; 8:45 am]

BILLING CODE 6820-14-P